DEPARTMENT OF COMMERCE

National Oceanic and Atmospheric Administration

50 CFR Part 622

[Docket No. 111104664-1798-01]

RIN 0648-BB61

Shrimp Fisheries of the Gulf of Mexico and South Atlantic; Revisions of Bycatch Reduction Device (BRD) Testing Protocols; Correction

AGENCY: National Marine Fisheries Service (NMFS), National Oceanic and Atmospheric Administration (NOAA), Commerce.

ACTION: Proposed rule; correction.

SUMMARY: This document contains a correction to a proposed rule that published on January 9, 2012, regarding proposed changes to shrimp regulations. The proposed rule stated that the “Expanded Mesh BRD” would be decertified for use by the Gulf of Mexico shrimp fishery after May 24, 2012. That information was not correct. The “Extended Funnel BRD” is the BRD design that will no longer be provisionally certified for use in the Gulf of Mexico shrimp fishery after May 24, 2012. This rule corrects that mistake. Both the Expanded Mesh and Extended Funnel BRDs remain certified for use in the South Atlantic shrimp fishery.

DATES: Written comments must be received on or before February 8, 2012.

ADDRESSES: You may submit comments, identified by NOAA-NMFS-2011-0274, by any one of the following methods:

• Electronic Submissions: Submit all electronic public comments via the Federal e-Rulemaking Portal http://www.regulations.gov.

• Mail: Steve Branstetter, Southeast Regional Office, NMFS, 263 13th Avenue South, St. Petersburg, FL 33701.

Instructions: No comments will be posted for public viewing until after the comment period has closed. All comments received are a part of the public record and will generally be posted to http://www.regulations.gov without change. All Personal Identifying Information (for example, name, address, etc.) voluntarily submitted by the commenter may be publicly accessible. Do not submit Confidential Business Information or otherwise sensitive or protected information.

To submit comments through the Federal e-Rulemaking Portal at http://www.regulations.gov, enter “NOAA-NMFS-2011-0274” in the keyword search, then select “Send a Comment or Submission.” NMFS will accept anonymous comments. Attachments to electronic comments will be accepted in Microsoft Word, Excel, Wordperfect, or Adobe PDF file formats only.

Comments received through means not specified in this rule will not be considered.

FOR FURTHER INFORMATION CONTACT: Anne Marie Eich, telephone: (727) 209-5968, email: AnneMarie.Eich@noaa.gov.

SUPPLEMENTARY INFORMATION:

Correction

In proposed rule FR Doc. 2012-153, published in the Federal Register issue of January 9, 2012 (77 FR 1045), under the heading “BRD Certifications”, on page 1046, column 1, 1st and 12th lines, correct the reference “Expanded Mesh” to read as “Extended Funnel”.

Dated: January 17, 2012.
Alan D. Risenhoover,
Acting Deputy Assistant Administrator for Regulatory Programs, National Marine Fisheries Service.

[FR Doc. 2012-1259 Filed 1-20-12; 8:45 am]

BILLING CODE 3510-22-P